DEPARTMENT OF TRANSPORTATION

Federal Aviation Administration

14 CFR Part 39

[Docket No. FAA-2013-1026; Directorate Identifier 2012-NM-173-AD]

RIN 2120-AA64

Airworthiness Directives; BAE Systems (Operations) Limited Airplanes

AGENCY: Federal Aviation Administration (FAA), DOT.

ACTION: Notice of proposed rulemaking (NPRM).

SUMMARY: We propose to adopt a new airworthiness directive (AD) for all BAE SYSTEMS (OPERATIONS) LIMITED Model BAe 146 series airplanes and Model Avro 146-RJ series airplanes. This proposed AD was prompted by reports of cracking of the main fitting of the nose landing gear (NLG). This proposed AD would require revising the maintenance program by incorporating a new safe-life limitation for the NLG main fitting. We are proposing this AD to prevent collapse of the NLG, which could lead to degradation of direction control on the ground or an un-commanded turn to the left and a consequent loss of control of the airplane on the ground, possibly resulting in damage to the airplane and injury to occupants.

DATES: We must receive comments on this proposed AD by January 27, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact BAE SYSTEMS (OPERATIONS) LIMITED, Customer Information Department, Prestwick International Airport, Ayrshire, KA9 2RW, Scotland, United Kingdom; telephone +44 1292 675207; fax +44 1292 675704; email RApublications@baesystems.com; Internet http://www.baesystems.com/Businesses/RegionalAircraft/index.htm. You may view this referenced service information at the FAA, Transport Airplane Directorate, 1601 Lind Avenue SW., Renton, WA. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Todd Thompson, Aerospace Engineer, International Branch, ANM-116, Transport Airplane Directorate, FAA, 1601 Lind Avenue SW., Renton, WA 98057-3356; telephone 425-227-1175; fax 425-227-1149.

SUPPLEMENTARY INFORMATION:

Comments Invited

We invite you to send any written relevant data, views, or arguments about this proposed AD. Send your comments to an address listed under the ADDRESSES section. Include “Docket No. FAA-2013-1026; Directorate Identifier 2012-NM-173-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2012-0191R1, dated November 6, 2012 (referred to after this as the Mandatory Continuing Airworthiness Information, or “the MCAI”), to correct an unsafe condition for the specified products. The MCAI states:

Several occurrences of the aeroplane's Nose Landing Gear (NLG) Main Fitting cracking have been reported. Subsequently in different cases, NLG Main Fitting crack lead to collapsed NLG, locked NLG steering and an aeroplane's un-commanded steering to the left.

Cracks in the NLG Bell Housing are not detectable with the NLG fitted to the aeroplane and are difficult to detect during overhaul without substantial disassembly of the gear.

This condition, if not corrected, could lead to degradation of directional control on the ground or an un-commanded turn to the left and a consequent loss of control of the aeroplane on the ground, possibly resulting in damage to the aeroplane and injury to occupants.

Prompted by these findings, BAE Systems (Operations) Ltd issued Inspection Service Bulletin (ISB) 32-186 (hereafter referred to as the ISB) to introduce a new safe life of 16,000 flight cycles (FC) for certain NLG main fittings, having a Part Number (P/N) as identified in Paragraph 1A, tables 1, 2 and 3 of the ISB.

To correct this unsafe condition, EASA issued AD 2012-0191R1 to require implementation of the new safe-life limitation for the affected NLG main fittings and replacement of fittings that have already exceeded the new limit.

Since that [EASA] AD was issued, it was found that clarification is necessary regarding the existing NLG main fitting life limits. Consequently, this [EASA] AD is revised by adding a Note to clarify that the current life limits, as specified in the applicable Aircraft Maintenance Manual (AMM), remain valid and should be applied, pending compliance with this AD.

You may examine the MCAI in the AD docket on the Internet at http://www.regulations.gov by searching for and locating it in Docket No. FAA-2013-1026.

Relevant Service Information

BAE SYSTEMS (OPERATIONS) LIMITED has issued Subject 05-10-15, “Aircraft Equipment Airworthiness Limitations,” of Chapter 05, “Time Limits/Maintenance Checks,” of the BAE Systems BAe 146 Series/AVRO 146-RJ Series Aircraft Maintenance Manual, Revision 108, dated September 15, 2012; and BAE SYSTEMS (OPERATIONS) LIMITED Inspection Service Bulletin ISB.32-186, dated April 12, 2012. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

This proposed AD requires revisions to certain operator maintenance documents to include new actions (e.g., inspections) and Critical Design Configuration Control Limitations (CDCCLs). Compliance with these actions and CDCCLs is required by 14 CFR 91.403(c). For airplanes that have been previously modified, altered, or repaired in the areas addressed by this proposed AD, the operator may not be able to accomplish the actions described in the revisions. In this situation, to comply with 14 CFR 91.403(c), the operator must request approval for an alternative method of compliance according to paragraph (j) of this proposed AD. The request should include a description of changes to the required inspections that will ensure the continued operational safety of the airplane.

Differences Between This Proposed AD and the MCAI or Service Information

This proposed AD differs from the MCAI and/or service information as follows: Although the MCAI specifies replacement thresholds for the affected NLG fittings, this proposed AD does not specify these thresholds as they are addressed by the maintenance program and contained in the safe-life limitations of the NLG main fitting, as specified in Chapter 05, “Time Limits/Maintenance Checks,” of the BAE Systems BAe 146 Series/AVRO 146-RJ Series Aircraft Maintenance Manual, Revision 108, dated September 15, 2012.

Costs of Compliance

We estimate that this proposed AD affects 4 airplanes of U.S. registry.

We estimate the following costs to comply with this proposed AD:

Estimated Costs
Action | Labor cost | Parts cost | Cost per product | Cost on U.S. operators
Revise maintenance program | 1 work-hour × $85 per hour = $85 | $0 | $85 | $340

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

BAE Systems (Operations) Limited: Docket No. FAA-2013-1026; Directorate Identifier 2012-NM-173-AD.

(a) Comments Due Date

We must receive comments by January 27, 2014.

(b) Affected ADs

None.

(c) Applicability

This AD applies to all BAE SYSTEMS (OPERATIONS) LIMITED Model BAe 146-100A, -200A, and -300A airplanes; and Model Avro 146-RJ70A, 146-RJ85A, and 146-RJ100A airplanes; certificated in any category; all models, all serial numbers.

(d) Subject

Air Transport Association (ATA) of America Code 32, Landing Gear.

(e) Reason

This AD was prompted by reports of cracking of the main fitting of the nose landing gear (NLG). We are issuing this AD to prevent collapse of the NLG, which could lead to degradation of direction control on the ground or an un-commanded turn to the left and a consequent loss of control of the airplane on the ground, possibly resulting in damage to the airplane and injury to occupants.

(f) Compliance

Comply with this AD within the compliance times specified, unless already done.

(g) Revise Maintenance or Inspection Program

Within 30 days after the effective date of this AD: Revise the maintenance or inspection program to incorporate a new safe-life limitation of the NLG main fitting, as specified by BAE Systems BAe 146 Series/AVRO 146-RJ Series Aircraft Maintenance Manual, Revision 108, dated September 15, 2012. Comply with all applicable instructions and airworthiness limitations included in BAE Systems BAe 146 Series/AVRO 146-RJ Series Aircraft Maintenance Manual, Revision 108, dated September 15, 2012. The initial compliance times for doing the actions is at the applicable times specified in BAE Systems BAe 146 Series/AVRO 146-RJ Series Aircraft Maintenance Manual, Revision 108, dated September 15, 2012, or within 30 days after the effective date of this AD, whichever is later.

(h) No Alternative Actions, Intervals, and/or Critical Design Configuration Control Limitations (CDCCLs)

After accomplishing the revision required by paragraph (g) of this AD, no alternative actions (e.g., inspections), intervals, or CDCCLs may be used unless the actions, intervals, or CDCCLs are approved as an alternative method of compliance (AMOC) in accordance with the procedures specified in paragraph (j)(1) of this AD.

(i) Parts Installation Limitation

As of the effective date of this AD, no person may install an NLG main fitting, having a part number identified in paragraph 1.A., Tables 1., 2., and 3. of BAE SYSTEMS (OPERATIONS) LIMITED Inspection Service Bulletin ISB.32-186, dated April 12, 2012, unless it is in compliance with the requirements of this AD.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Todd Thompson, Aerospace Engineer, International Branch, ANM-116, Transport Airplane Directorate, FAA, 1601 Lind Avenue SW., Renton, WA 98057-3356; telephone 425-227-1175; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer, use these actions if they are FAA-approved. Corrective actions are considered FAA-approved if they were approved by the State of Design Authority (or its delegated agent, or the design approval holder with a State of Design Authority's design organization approval). For a repair method to be approved, the repair approval must specifically refer to this AD. You are required to ensure the product is airworthy before it is returned to service.

(k) Related Information

(1) Refer to Mandatory Continuing Airworthiness Information (MCAI) EASA Airworthiness Directive 2012-0191R1, dated November 6, 2012, for related information. This MCAI may be found in the AD docket on the Internet at http://www.regulations.gov.

(2) For service information identified in this AD, contact BAE SYSTEMS (OPERATIONS) LIMITED, Customer Information Department, Prestwick International Airport, Ayrshire, KA9 2RW, Scotland, United Kingdom; telephone +44 1292 675207; fax +44 1292 675704; email RApublications@baesystems.com; Internet http://www.baesystems.com/Businesses/RegionalAircraft/index.htm. You may review copies of this service information at the FAA, Transport Airplane Directorate, 1601 Lind Avenue SW., Renton, WA. For information on the availability of this material at the FAA, call 425-227-1221.

Issued in Renton, Washington, on November 29, 2013.
John P. Piccola,
Acting Manager, Transport Airplane Directorate, Aircraft Certification Service.

[FR Doc. 2013-29514 Filed 12-10-13; 8:45 am]

BILLING CODE 4910-13-P